DEPARTMENT OF THE INTERIOR

Fish and Wildlife Service

[Docket No. FWS-HQ-IA-2019-0030; FXIA16710900000-190-FF09A30000]

Foreign Endangered Species; Marine Mammals; Receipt of Permit Applications

AGENCY: Fish and Wildlife Service, Interior.

ACTION: Notice of receipt of permit applications; request for comments.

SUMMARY: We, the U.S. Fish and Wildlife Service, invite the public to comment on applications to conduct certain activities with foreign species that are listed as endangered under the Endangered Species Act (ESA). With some exceptions, the ESA prohibits activities with listed species unless Federal authorization is issued that allows such activities. The ESA also requires that we invite public comment before issuing permits for any activity otherwise prohibited by the ESA with respect to any endangered species.

DATES: We must receive comments by May 28, 2019.

ADDRESSES:

Obtaining Documents: The applications, application supporting materials, and any comments and other materials that we receive will be available for public inspection at http://www.regulations.gov in Docket No. FWS-HQ-IA-2019-0030.

Submitting Comments: When submitting comments, please specify the name of the applicant and the permit number at the beginning of your comment. You may submit comments by one of the following methods:

• Internet: http://www.regulations.gov. Search for and submit comments on Docket No. FWS-HQ-IA-2019-0030.

• U.S. mail or hand-delivery: Public Comments Processing, Attn: Docket No. FWS-HQ-IA-2019-0030; U.S. Fish and Wildlife Service Headquarters, MS: BPHC; 5275 Leesburg Pike; Falls Church, VA 22041-3803.

For more information, see Public Comment Procedures under SUPPLEMENTARY INFORMATION.

FOR FURTHER INFORMATION CONTACT: Brenda Tapia, by phone at 703-358-2104, via email at DMAFR@fws.gov, or via the Federal Relay Service at 800-877-8339.

SUPPLEMENTARY INFORMATION:

I. Public Comment Procedures

A. How do I comment on submitted applications?

We invite the public and local, State, Tribal, and Federal agencies to comment on these applications. Before issuing any of the requested permits, we will take into consideration any information that we receive during the public comment period.

You may submit your comments and materials by one of the methods in ADDRESSES. We will not consider comments sent by email or fax, or to an address not in ADDRESSES. We will not consider or include in our administrative record comments we receive after the close of the comment period (see DATES).

When submitting comments, please specify the name of the applicant and the permit number at the beginning of your comment. Provide sufficient information to allow us to authenticate any scientific or commercial data you include. The comments and recommendations that will be most useful and likely to influence agency decisions are: (1) Those supported by quantitative information or studies; and (2) those that include citations to, and analyses of, the applicable laws and regulations.

B. May I review comments submitted by others?

You may view and comment on others' public comments at http://www.regulations.gov, unless our allowing so would violate the Privacy Act (5 U.S.C. 552a) or Freedom of Information Act (5 U.S.C. 552).

C. Who will see my comments?

If you submit a comment at http://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

II. Background

To help us carry out our conservation responsibilities for affected species, and in consideration of section 10(c) of the Endangered Species Act of 1973, as amended (ESA; 16 U.S.C. 1531 et seq.), we invite public comments on permit applications before final action is taken. With some exceptions, the ESA prohibits certain activities with listed species unless Federal authorization is issued that allows such activities. Permits issued under section 10(a)(1)(A) of the ESA allow otherwise prohibited activities for scientific purposes or to enhance the propagation or survival of the affected species. Service regulations regarding prohibited activities with endangered species, captive-bred wildlife registrations, and permits for any activity otherwise prohibited by the ESA with respect to any endangered species are available in title 50 of the Code of Federal Regulations in part 17.

III. Permit Applications

We invite comments on the following applications.

Applicant: Duke University Lemur Center, Durham, NC; Permit No. 12767D

The applicant requests a permit to export a pair of captive-born Coquerel's sifaka (Propithecus coquereli) to Bristol Zoo, Clifton, UK, for the purpose of enhancing the propagation or survival of the species. This notification is for a single export.

Applicant: Duke University Lemur Center, Durham, NC; Permit No. 12768D

The applicant requests a permit to export a pair of captive-born Coquerel's sifaka (Propithecus coquereli) to Chester Zoo, Chester, UK, for the purpose of enhancing the propagation or survival of the species. This notification is for a single export.

Applicant: Duke University, Durham, NC; Permit No. 217642

The applicant requests a permit to import biological specimens from various non-human primate species (Order Primates), including all species of lemurids, prosimians, New and Old World monkeys, and apes, for the purpose of scientific research. This notification covers activities to be conducted by the applicant over a 5-year period.

Applicant: Tigers for Tomorrow, Atalla, AL; Permit No. 10375D

The applicant requests a permit to import one male and five female captive-born tigers (Panthera tigris) from ADI Temporary Custody Center, Escuintla, Guatemala, for the purpose of enhancing the propagation or survival of the species. This notification is for a single import.

Applicant: IUCN Iguana Specialist Group, Chicago, IL; Permit No. 32153D

The applicant requests a permit for the import of biological specimens for the following species for the purpose of scientific research. This notification covers activities to be conducted by the applicant over a 5-year period.

Common name | Scientific name
Mayaguana iguana | Cyclura carinata bartschi.
Turks and Caicos iguana | Cyclura carinata carinata.
Jamaican iguana | Cyclura collei.
Rhinoceros iguana | Cyclura cornuta.
Bahamas iguana | Cyclura cychlura.
Cuban ground iguana | Cyclura nubila.
Anegada ground iguana | Cyclura pinguis.
Ricord's ground iguana | Cyclura ricordi.
San Salvador iguana | Cyclura rileyi.
Grand Cayman blue iguana | Cyclura lewisi.
Mona ground iguana | Cyclura stejnegeri.

Applicant: Wild Animal Sanctuary, Keenesburg, CO; Permit No. 17189D

The applicant requests a permit to import two pairs of captive-born tigers (Panthera tigris) from Invictus Foundation, Pachuca, Mexico, for the purpose of enhancing the propagation or survival of the species. This notification is for a single import.

Applicant: Wild Animal Sanctuary, Keenesburg, CO; Permit No. 18004D

The applicant requests a permit to import a pair of captive-born tigers (Panthera tigris) from Zoologico Santiago Del Estero, Del Estero, Argentina, for the purpose of enhancing the propagation or survival of the species. This notification is for a single import.

Applicant: Southwest Fisheries Science Center, La Jolla, CA; Permit No. 69509B

The applicant requests reissuance of a permit to import and export biological samples collected from wild and captive-bred Kemp's ridley sea turtle (Lepidochelys kempii), hawksbill sea turtle (Eretmochelys imbricata), leatherback sea turtle (Dermochelys coriacea), green sea turtle (Chelonia mydas), loggerhead sea turtle (Caretta caretta), and olive ridley sea turtle (Lepidochelys olivacea) for the purpose of scientific research. Samples are collected form live or salvaged specimens. This notification covers activities to be conducted by the applicant over a 5-year period.

Applicant: Judy May, Water Valley, TX; Permit No. 16838B

The applicant requests a captive-bred wildlife registration under 50 CFR 17.21(g) for Barasingha (Rucervus duvaucelii), Red lechwe (Kobus leche), Eld's deer (Rucervus eldii), and Arabian oryx (Oryx leucoryx) to enhance the propagation or survival of the species. This notification covers activities to be conducted by the applicant over a 5-year period.

Applicant: Memphis Zoological Garden, Memphis, TN; Permit No. 26429D

The applicant requests a captive-bred wildlife registration under 50 CFR 17.21(g) for the following species to enhance the propagation or survival of the species. This notification covers activities to be conducted by the applicant over a 5-year period.

Common name | Scientific name
Bontebok | Damaliscus pygargus pygargus.
Asian elephant | Elephas maximus.
Cheetah | Acinonyx jubatus.
Amur leopard | Panthera pardus orientalis.
Sumatran tiger | Panthera tigris sumatrae.
Snow leopard | Panthera uncia uncia.
White-cheeked gibbon | Nomascus leucogenys.
Siamang | Symphalangus syndactylus.
Black and white ruffed lemur | Varecia variegata.
Red ruffed lemur | Varecia rubra.

Applicant: Santa Ana Zoo, Santa Ana, CA; Permit No. 06177D

The applicant requests a captive-bred wildlife registration under 50 CFR 17.21(g) for the following species to enhance the propagation or survival of the species. This notification covers activities to be conducted by the applicant over a 5-year period.

Common name | Scientific name
Cotton-top tamarin | Saguinus oedipus.
Golden lion tamarin | Leontopithecus rosalia.
Golden-headed lion tamarin | Leontopithecus chrysomelas.
Black and white ruffed lemur | Varecia variegata.
Ring-tailed lemur | Lemur catta.

Applicant: Jacksonville Zoological Society, Jacksonville, FL; Permit No. 24690D

The applicant requests a captive-bred wildlife registration under 50 CFR 17.21(g) for the following species, to enhance the propagation or survival of the species. This notification covers activities to be conducted by the applicant over a 5-year period.

Common name | Scientific name
Bonobo | Pan paniscus.
Western lowland gorilla | Gorilla gorilla.
Sumatran tiger | Panthera tigris sumatrae.
Malayan tiger | Panthera tigris jacksoni.
South African cheetah | Acinonyx jubatus.
White rhinoceros | Ceratotherium simum simum.
Komodo dragon | Varanus komodoensis.

Applicant: Ross Popenoe, Redmond, WA; Permit No. 816505

The applicant requests a captive-bred wildlife registration under 50 CFR 17.21(g) for Madagascar radiated tortoise (Geochelone radiata) and Galapagos tortoise (Geochelone nigra), to enhance the propagation or survival of the species. This notification covers activities to be conducted by the applicant over a 5-year period.

Applicant: William Burnett, North Little Rock, AR; Permit No. 034408

The applicant requests a captive-bred wildlife registration under 50 CFR 17.21(g) for Madagascar radiated tortoise (Geochelone radiata) and spotted pond turtle (Geoclemys hamiltonii), to enhance the propagation or survival of the species. This notification covers activities to be conducted by the applicant over a 5-year period.

Applicant: Tom Motlow, Dallas, TX; Permit No. 25531D

The applicant requests a captive-bred wildlife registration under 50 CFR 17.21(g) for radiated tortoise (Astrochelys radiata) to enhance the propagation or survival of the species. This notification covers activities to be conducted by the applicant over a 5-year period.

Applicant: J-3 Ranch, Missouri City, TX; Permit No. 23872D

The applicant requests a captive-bred wildlife registration under 50 CFR 17.21(g) for red lechwe (Kobus leche), to enhance the propagation or survival of the species. This notification covers activities to be conducted by the applicant over a 5-year period.

Applicant: North Carolina Zoo, Asheboro, NC; Permit No. 13035D

The applicant requests a captive-bred wildlife registration under 50 CFR 17.21(g) for komodo island monitor (Varanus komodoensis), to enhance the propagation or survival of the species. This notification covers activities to be conducted by the applicant over a 5-year period.

Applicant: ARDENR, LP, San Angelo, TX; Permit No. 07495D

The applicant requests a captive-bred wildlife registration under 50 CFR 17.21(g) for barasingha (Rucervus duvaucelii), to enhance the propagation or survival of the species. This notification covers activities to be conducted by the applicant over a 5-year period.

Applicant: Jackson Zoological Society, Inc., Jackson, MS; Permit No. 24559D

The applicant requests a captive-bred wildlife registration under 50 CFR 17.21(g) for Sumatran tiger (Panthera tigris sumatrae), red-ruffed lemur (Varecia rubra), Diana monkey (Cercopithecus diana), and chimpanzee (Pan troglodytes) to enhance the propagation or survival of the species. This notification covers activities to be conducted by the applicant over a 5-year period.

Applicant: Ricardo Longoria, Natalia, TX; Permit No. 33103D

The applicant requests a captive-bred wildlife registration under 50 CFR 17.21(g) for Arabian oryx (Oryx leucoryx) to enhance the propagation or survival of the species. This notification covers activities to be conducted by the applicant over a 5-year period.

Applicant: Tulsa Zoo, Tulsa, OK; Permit No. 85017C

The applicant requests a captive-bred wildlife registration under 50 CFR 17.21(g) for the following species, to enhance the propagation or survival of the species. This notification covers activities to be conducted by the applicant over a 5-year period.

Common name | Scientific name
Fiji banded iguana | Brachylophus fasciatus.
Aquatic box turtle | Terrapene coahuila.
Radiated Madagascar tortoise | Geochelone radiata.
San Esteban Island chuckwalla | Sauromalus varius.
Komodo island monitor | Varanus komodoensis.
Jamaican boa | Epicrates subflavus.
Chinese alligator | Alligator sinensis.
White Siberian crane | Grus leucogeranus.
African penguin | Spheniscus demersus.
Golden parakeet | Aratinga guarouba.
Rothschild's starling | Leucopsar rothschildi.
Asian elephant | Elephas maximus.
Black-and-white ruffed lemur | Varecia variegata variegata.
Golden-headed lion tamarin | Leontopithecus chrysomelas.
Diana monkey | Cercopithecus diana.
Siamang | Symphalangus syndactylus.
Chimpanzee | Pan troglodytes.
Black-footed cat | Felis nigripes.
Lion | Panthera leo.
Malayan tiger | Panthera tigris jacksoni.
Snow leopard | Panthera uncia.
African wild dog | Lycaon pictus.
White rhinoceros | Ceratotherium simum.

Applicant: Judy May, Water Valley, TX; Permit No. 85955C

The applicant requests a permit authorizing the culling of excess Barasingha (Rucervus duvaucelii), Red lechwe (Kobus leche), Eld's deer (Rucervus eldii), and Arabian oryx (Oryx leucoryx) from the captive herd maintained at their facility, to enhance the species' propagation and survival. This notification covers activities to be conducted by the applicant over a 5-year period.

Applicant: J-3 Ranch, Missouri City, TX; Permit No. 28795D

The applicant requests a permit authorizing the culling of excess red lechwe (Kobus leche) from the captive herd maintained at their facility, to enhance the species' propagation and survival. This notification covers activities to be conducted by the applicant over a 5-year period.

Applicant: ARDENR, LP, San Angelo, TX; Permit No. 07494D

The applicant requests a permit authorizing the culling of excess barasingha (Rucervus duvaucelii) from the captive herd maintained at their facility, to enhance the species' propagation and survival. This notification covers activities to be conducted by the applicant over a 5-year period.

Multiple Trophy Applicants

The following applicants request permits to import sport-hunted trophies of male bontebok (Damaliscus pygargus pygargus) culled from a captive herd maintained under the management program of the Republic of South Africa, for the purpose of enhancing the propagation or survival of the species.

Applicant: Amy Evans, Madera, CA; Permit No. 33093D

Applicant: Philip Geisse Westlin, OR; Permit No. 28644D

Applicant: David Schultz, Waukesha, WI; Permit No. 22128D

Applicant: Madeline Demaske, Greeley, CO; Permit No. 24619D

Applicant: Joseph Hohenthaner, Madison, SD; Permit No. 23082D

Applicant: Jeff Demaske, Greeley, CO; Permit No. 24612D

Applicant: Daniel Meyer, Cypress, TX; Permit No. 26444D

IV. Next Steps

After the comment period closes, we will make decisions regarding permit issuance. If we issue permits to any of the applicants listed in this notice, we will publish a notice in the Federal Register. You may locate the notice announcing the permit issuance by searching http://www.regulations.gov for the permit number listed above in this document. For example, to find information about the potential issuance of Permit No. 12345A, you would go to regulations.gov and search for “12345A”.

V. Authority

We issue this notice under the authority of the Endangered Species Act of 1973, as amended (16 U.S.C. 1531 et seq.), and its implementing regulations.

Brenda Tapia,
Program Analyst/Data Administrator, Branch of Permits, Division of Management Authority.

[FR Doc. 2019-08408 Filed 4-25-19; 8:45 am]

BILLING CODE 4333-15-P